DEPARTMENT OF ENERGY

Federal Energy Regulatory Commission

Combined Notice of Filings #1

Take notice that the Commission received the following electric rate filings:

Docket Numbers: ER12-290-001.

Applicants: Midwest Independent Transmission System Operator, Inc.

Description: Midwest Independent Transmission System Operator, Inc. submits tariff filing per 35: Att. L_MVP Compliance to be effective 1/1/2012.

Filed Date: 1/12/12.

Accession Number: 20120112-5042.

Comments Due: 5 p.m. ET 2/2/12.

Docket Numbers: ER12-430-001.

Applicants: Southwest Power Pool, Inc.

Description: Request for Deferral of Commission Action for Revisions to Attachment AE to be effective 12/31/9998.

Filed Date: 1/11/12.

Accession Number: 20120111-5204.

Comments Due: 5 p.m. ET 2/1/12.

Docket Numbers: ER12-729-002.

Applicants: ISO New England Inc.

Description: Errata to XML Metadata: Proposed Effective Date ER12-729-000 to be effective 3/1/2012.

Filed Date: 1/11/12.

Accession Number: 20120111-5205.

Comments Due: 5 p.m. ET 2/1/12.

Docket Numbers: ER12-793-000.

Applicants: Public Service Company of Colorado.

Description: 2012-1-11_IBDRA_SLR E&P 291-PSCo-NOC to be effective 3/11/2013.

Filed Date: 1/11/12.

Accession Number: 20120111-5206.

Comments Due: 5 p.m. ET 2/1/12.

Docket Numbers: ER12-794-000.

Applicants: NRG Power Marketing LLC.

Description: Market-Based Rate Tariff Amendment to be effective 2/28/2012.

Filed Date: 1/11/12.

Accession Number: 20120111-5224.

Comments Due: 5 p.m. ET 2/1/12.

Take notice that the Commission received the following electric securities filings:

Docket Numbers: ES12-7-000.

Applicants: Westar Energy, Inc.

Description: Amendment to Application of Westar Energy, Inc.

Filed Date: 1/12/12.

Accession Number: 20120112-5012.

Comments Due: 5 p.m. ET 1/23/12.

Docket Numbers: ES12-10-000.

Applicants: Kansas Gas and Electric Company.

Description: Amendment to Application of Kansas Gas and Electric Company.

Filed Date: 1/12/12.

Accession Number: 20120112-5011.

Comments Due: 5 p.m. ET 1/23/12.

Docket Numbers: ES12-11-000.

Applicants: Kansas Gas and Electric Company.

Description: Amendment to Application of Kansas Gas and Electric Company.

Filed Date: 1/12/12.

Accession Number: 20120112-5010.

Comments Due: 5 p.m. ET 1/23/12.

Take notice that the Commission received the following PURPA 210(m)(3) filings:

Docket Numbers: QM12-2-000.

Applicants: Public Service Company of New Mexico.

Description: Public Service Company of New Mexico submits pleading (Answer to Protest) requesting to amend its application.

Filed Date: 1/11/12.

Accession Number: 20120111-5208.

Comments Due: 5 p.m. ET 2/8/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2012.
Nathaniel J. Davis, Sr.,
Deputy Secretary.

[FR Doc. 2012-1283 Filed 1-23-12; 8:45 am]

BILLING CODE 6717-01-P